COMMISSION ON CIVIL RIGHTS

Notice of Public Meeting of the Missouri Advisory Committee; Correction

AGENCY: Commission on Civil Rights.

ACTION: Notice; correction to call-in number and conference ID number.

SUMMARY: The Commission on Civil Rights published a notice in the Federal Register of Tuesday, June 16, 2020, concerning a meeting of the Missouri Advisory Committee. The document contained a call-in number and conference ID number that has now been changed to a new call-in number and conference ID number.

FOR FURTHER INFORMATION CONTACT: David Barreras, (202) 499-4066, dbarerras@usccr.gov.

Correction: In the Federal Register of Tuesday, June 16, 2020, in FR Doc. 2020-13058, on page 36528, second column of 36528, correct the call-in number to read: (206) 800-4892 and the conference ID: 345799543.

Dated: July 7, 2020.
David Mussatt,
Supervisory Chief, Regional Programs Unit.

[FR Doc. 2020-14930 Filed 7-9-20; 8:45 am]

BILLING CODE 6335-01-P